DEPARTMENT OF AGRICULTURE

Food Safety and Inspection Service

[Docket No. FSIS-2016-0043]

Codex Alimentarius Commission: Meeting of the Codex Committee on Spices and Culinary Herbs

AGENCY: Office of the Deputy Under Secretary for Food Safety, USDA.

ACTION: Notice of public meeting and request for comments.

SUMMARY: The Office of the Deputy Under Secretary for Food Safety, U.S. Department of Agriculture (USDA) and the Agricultural Marketing Service (AMS), are sponsoring a public meeting on January 17, 2017. The objective of the meeting is to provide information and receive public comments on agenda items and draft United States (U.S.) positions to be discussed at the 3rd Session of the Codex Committee on Spices and Culinary Herbs (CCSCH) of the Codex Alimentarius Commission (Codex), taking place in Chennai, India, February 6-10,2017. The Deputy Under Secretary for Food Safety and AMS recognize the importance of providing interested parties the opportunity to obtain background information on the 3rd Session of the CCSCH and to address items on the agenda.

DATES: The public meeting is scheduled for Tuesday, January 17, 2017 from 2:00 p.m.-4:00 p.m.

ADDRESSES: The public meeting will take place at the USDA, Jamie L. Whitten Building, Room 107-A, 1400 Independence Avenue SW., Washington, DC 20250.

Documents related to the 3rd Session of the CCSCH will be accessible via the Internet at the following address: http://www.codexalimentarius.org/meetings-reports/en/.

Dorian LaFond, U.S. Delegate to the 3rd Session of the CCSCH, invites U.S. interested parties to submit their comments electronically to the following email address: Dorian.Lafond@ams.usda.gov.

Call-In-Number

If you wish to participate in the public meeting for the 3rd Session of the CCSCH by conference call, please use the call-in-number below:

Call-in Number: 1-888-844-9904

The participant code will be posted on the following Web page: http://www.fsis.usda.gov/wps/portal/fsis/topics/international-affairs/us-codex-alimentarius/public-meetings

Registration

Attendees may register to attend the public meeting by emailing Marie.Maratos@fsis.usda.gov by January 12, 2017. Early registration is encouraged as it will expedite entry into the building. The meeting will take place in a Federal building. Attendees should bring photo identification and plan for adequate time to pass through security screening systems. Attendees that are not able to attend the meeting in person, but who wish to participate may do so by phone.

FOR FURTHER INFORMATION ABOUT THE 3rd Session of CCSCH CONTACT: Dorian LaFond, Agricultural Marketing Service, Fruits and Vegetables Division, Mail Stop 0235, Room 2086, USDA, 1400 Independence Avenue SW., Washington, DC 20250. Telephone: (202) 690-4944, Fax: (202) 720-0016, email: dorian.lafond@usda.gov.

FOR FURTHER INFORMATION ABOUT THE PUBLIC MEETING CONTACT: Marie Maratos, U.S. Codex Office, 1400 Independence Avenue SW., Room 4861, Washington, DC 20250. Telephone: (202) 205-7760, Fax: (202) 720-3157, email: Marie.Maratos@fsis.usda.gov.

SUPPLEMENTARY INFORMATION:

Background

The Codex was established in 1963 by two United Nations organizations, the Food and Agriculture Organization and the World Health Organization. Through adoption of food standards, codes of practice, and other guidelines developed by its committees, and by promoting their adoption and implementation by governments, the Codex seeks to protect the health of consumers and ensure that fair practices are used in trade.

The CCSCH is responsible for elaborating worldwide standards for spices and culinary herbs in their dried and dehydrated state in whole, ground, and cracked or crushed form. The CCSCH consults as necessary with other international organizations in the standards development process to avoid duplication.

The CCSCH is hosted by India.

Issues To Be Discussed at the Public Meeting

The following items on the Agenda for the 3rd Session of the CCSCH will be discussed during the public meeting:

• Matters Referred by the Codex Alimentarius Commission and its Subsidiary bodies;

• Activities of International Organizations relevant to the Work of CCSCH;

• Draft Standard for Cumin;

• Draft Standard for Thyme;

• Proposed draft Standard for Black, White and Green Pepper;

• Proposed draft Standard for Oregano;

• Sampling plans for cumin and thyme;

• Further work on grouping of spices and culinary herbs;

• Discussion paper on glossary of terms for spices and culinary herbs;

• Discussion paper on further processing (in the context of spices and culinary herbs);

• Proposal for new work (replies to CL 2015/27-SCH); and

• Other business.

Each issue listed will be fully described in documents distributed, or to be distributed, by the Secretariat before the Meeting. Members of the public may access or request copies of these documents (see ADDRESSES).

Public Meeting

At the January 17, 2017, public meeting, draft U.S. positions on the agenda items will be described and discussed. Attendees will have the opportunity to pose questions and offer comments. Written comments may be offered at the meeting or sent to the U.S. Delegates for the 3rd Session of the CCSCH,(see ADDRESSES). Written comments should state that they relate to the activities of the 3rd Session of the CCSCH.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on December 8, 2016.
Paulo Almeida,
Acting U.S. Manager for Codex Alimentarius.

[FR Doc. 2016-29945 Filed 12-13-16; 8:45 am]

BILLING CODE 3410-DM-P